DEPARTMENT OF THE INTERIOR

National Park Service

Notice of Inventory Completion: University of Wyoming, Anthropology Department, Human Remains Repository, Laramie, WY

AGENCY: National Park Service, Interior.

ACTION: Notice.

Notice is here given in accordance with the Native American Graves Protection and Repatriation Act (NAGPRA), 25 U.S.C. 3003, of the completion of an inventory of human remains and associated funerary objects in the possession and control of the University of Wyoming, Anthropology Department, Human Remains Repository, Laramie, WY. The human remains and associated funerary objects were removed from the area of The Dalles in Oregon.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by University of Wyoming, Anthropology Department, Human Remains Repository professional staff in consultation with representatives of the Confederated Tribes of the Warm Springs Reservation of Oregon, and in conjunction with the Confederated Tribes of the Umatilla Indian Reservation, Oregon, and Confederated Tribes and Bands of the Yakama Nation, Washington.

In the 1930s, human remains representing a minimum of 18 individuals were removed from near The Dalles in Oregon, by two private citizens of the area after the burial locations had been disturbed by earth moving activities associated with highway construction. No known individuals have been identified. The 22 associated funerary objects are 1 lot of brass, iron wire and nail fragments; 2 rolled copper/brass tinklers or tube beads; 1 lot of small fragments of window glass; 1 shell bead; 1 bird bone whistle; 3 fragments of worked animal bone; 5 small pieces of wood; 5 pieces of unmodified animal bone; 1 lot of small fragments of lead sheeting; 1 distal phalanx of a large bird (probably an eagle); and 1 lot of small glass trade beads in a variety of colors.

Verdigris staining on some of the human remains indicates contact with copper or brass. Some of the funerary objects are from the historic era and suggest a burial in the mid to late-1800s. It is not known if all the objects described above are associated funerary objects or were inadvertently incorporated into the collection during storage. However, the University of Wyoming, Anthropology Department, Human Remains Repository are treating all objects that were found stored with the Native American human remains as associated funerary objects.

The University of Wyoming, Anthropology Department, Human Remains Repository determined that the human remains are Native American based on the presence of platymeric femoral morphology, toothwear patterns, the presence of shovel shaped incisors, interorbital observations and cranial deformation patterns, as well as the statements regarding recovery context made by one of the original collectors. Tribal evidence presented for cultural affiliation is based on review of records afforded to the tribes, historic documented locations of tribal groups and oral histories of their occupation of the general area, and review of the information from the Human Remains Repository. Based on this information, the cultural affiliation is to the Confederated Tribes of the Umatilla Indian Reservation, Oregon; Confederated Tribes of the Warm Springs Reservation of Oregon; and Confederated Tribes and Bands of the Yakama Nation, Washington.

Officials of the University of Wyoming, Anthropology Department, Human Remains Repository have determined that, pursuant to 25 U.S.C. 3001 (9-10), the human remains described above represent the physical remains of 18 individuals of Native American ancestry. Officials also have determined that, pursuant to 25 U.S.C. 3001 (3)(A), the 22 objects described above are reasonably believed to have been placed with or near individual human remains at the time of death or later as part of a death rite or ceremony. Lastly, officials of the University of Wyoming, Anthropology Department, Human Remains Repository have determined that, pursuant to 25 U.S.C. 3001 (2), there is a relationship of shared group identity that can be reasonably traced between the Native American human remains and associated funerary objects and the Confederated Tribes of the Umatilla Indian Reservation, Oregon; Confederated Tribes of the Warm Springs Reservation of Oregon; and Confederated Tribes and Bands of the Yakama Nation, Washington.

Representatives of any other Indian tribe that believes itself to be culturally affiliated with the human remains and associated funerary objects should contact Rick L. Weathermon, NAGPRA Contact at the University of Wyoming, Department 3431, Anthropology, 1000 E. University Ave., Laramie, WY 82071, telephone (307) 766-5136, before March 3, 2010. Repatriation of the human remains and associated funerary objects to the Confederated Tribes of the Umatilla Indian Reservation, Oregon; Confederated Tribes of the Warm Springs Reservation of Oregon; and Confederated Tribes and Bands of the Yakama Nation, Washington may proceed after that date if no additional claimants come forward.

The University of Wyoming, Anthropology Department, Human Remains Repository is responsible for notifying the Confederated Tribes of the Umatilla Indian Reservation, Oregon; Confederated Tribes of the Warm Springs Reservation of Oregon; and Confederated Tribes and Bands of the Yakama Nation, Washington that this notice has been published.

Dated: December 16, 2009
Sherry Hutt,
Manager, National NAGPRA Program.

[FR Doc. 2010-2023 Filed 1-29-10; 8:45 am]

BILLING CODE 4312-50-S